Memorandum of May 24, 2019

Delegation of Function Under the Hizballah International Financing Prevention Act of 2015, as Amended

Memorandum for the Secretary of State [and] the Secretary of the Treasury

By the authority vested in me as President by the Constitution and the laws of the United States of America, including section 301 of title 3, United States Code, I hereby delegate to the Secretary of the Treasury, in consultation with the Secretary of State, the function vested in the President by section 102(d) of the Hizballah International Financing Prevention Act of 2015 (Public Law 114-102), as amended by the Hizballah International Financing Prevention Amendments Act of 2018 (Public Law 115-272) (collectively, the “Acts”).

The function delegated by this memorandum shall be exercised in coordination with departments and agencies through the National Security Presidential Memorandum-4 process. Any reference in this memorandum to the Acts shall be deemed to be a reference to any future Act that is the same or substantially the same as such provision.

The Secretary of the Treasury is authorized and directed to publish this memorandum in the Federal Register.

THE WHITE HOUSE,

Washington, May 24, 2019

[FR Doc. 2019-11416

Filed 5-29-19; 8:45 am]

Billing code 4811-33-P